DEPARTMENT OF COMMERCE

National Oceanic and Atmospheric Administration

[RTID 0648-XF026]

South Atlantic Fishery Management Council (Council)—Public Meetings

AGENCY: National Marine Fisheries Service (NMFS), National Oceanic and Atmospheric Administration (NOAA), Commerce.

ACTION: Notice of public hearing.

SUMMARY: The South Atlantic Fishery Management Council (Council) will hold two public hearings pertaining to Joint Amendment 11 to the Fishery Management Plan (FMP) for Coral, Coral Reefs, and Live/Hard Bottom Habitats of the South Atlantic Region and Amendment 12 to the FMP for the Shrimp Fishery of the South Atlantic region. This amendment would establish a Rock Shrimp Fishery Access Area along the eastern edge of the northern extension of the Oculina Bank Habitat Area of Particular Concern.

DATES: A public hearing will be held via webinar on Tuesday, August 5, 2025. An in-person public hearing will be held Thursday, August 7, 2025. Both hearings will begin at 6 p.m. (See ADDRESSES).

ADDRESSES:

Public Hearing Address: The in-person public hearing will be held at the Willie Galimore Community Center, 399 Riberia Street, Augustine, FL 32084.

Council Address: South Atlantic Fishery Management Council, 4055 Faber Place Drive, Suite 201, N Charleston, SC 29405.

FOR FURTHER INFORMATION CONTACT: Kim Iverson, Public Information Officer, 4055 Faber Place Drive, Suite 201, North Charleston, SC 29405; phone (843) 571-4366; email: kim.iverson@safmc.net.

SUPPLEMENTARY INFORMATION: Public hearing documents, an online public comment form, and other materials will be posted to the Council's website at: https://safmc.net/events/august-2025-public-hearings-comprehensive-amendment-coral-11-shrimp-12/ as they become available. Written comments should be addressed to John Carmichael, Executive Director, SAFMC, 4055 Faber Place Drive, Suite 201, N Charleston, SC 29405. Written comments must be received by 5 p.m., August 8, 2025. During the hearings Council staff will provide an overview of actions being considered in the amendment. Staff will answer clarifying questions on the presented information and the proposed actions. Following the presentation and questions, the public will have the opportunity to provide comments on the amendment.

Joint Coral Amendment 11, Shrimp Amendment 12

This joint amendment was initiated following the disapproval of Coral Amendment 10 by the Secretary of Commerce, where the Council proposed establishing a Rock Shrimp Fishery Access Area (SFAA) along the eastern edge of the northern extension of the Oculina Bank Habitat Area of Particular Concern (HAPC). This area was historically used by the rock shrimp fishery but was closed through implementation of Coral Amendment 8. Through the joint amendment, the Council proposes establishing the same SFAA as originally proposed through Coral Amendment 10 to help the rock shrimp fishery achieve optimum yield while minimizing negative effects to the Coral HAPC.

Special Accommodations

These meetings are physically accessible to people with disabilities. Requests for auxiliary aids should be directed to the council office (see ADDRESSES) five (5) days prior to the meeting.

Note: The times and sequence specified in this agenda are subject to change.

Authority: 16 U.S.C. 1801 et seq.

Dated: July 15, 2025.
Rey Israel Marquez,
Acting Deputy Director, Office of Sustainable Fisheries, National Marine Fisheries Service.

[FR Doc. 2025-13447 Filed 7-16-25; 8:45 am]

BILLING CODE 3510-22-P